DEPARTMENT OF EDUCATION

Regional Advisory Committees

AGENCY: Office of Elementary and Secondary Education, U.S. Department of Education.

ACTION: Amendment to notice of open meetings.

SUMMARY: The Department of Education (Department) announces an amendment to the dates and times of Meeting 2 for each of the Regional Advisory Committee (RACs).

ADDRESSES: The meetings will be conducted virtually. See the “Public Participation” heading in the SUPPLEMENTARY INFORMATION section of this document for instructions on how to access the virtual meetings.

DATES: The virtual, open meetings for each of the RACs will be held on the dates and times listed under SUPPLEMENTARY INFORMATION.

FOR FURTHER INFORMATION CONTACT: Michelle Daley, Group Leader, Comprehensive Centers Group, Office of Program and Grantee Support Services, U.S. Department of Education. Telephone: 202-987-1057. Email: OESE.RAC@ed.gov.

If you are deaf, hard of hearing, or have a speech disability and wish to access telecommunications relay services, please dial 7-1-1.

For specific RACs, contact the Designated Federal Official (DFO), listed below:

Appalachia and West RAC: Muhammad Kara, email: Muhammad.Kara@ed.gov

Central and Southwest RAC: Rebekka Meyer, email: Rebekka.Meyer@ed.gov

Mid-Atlantic RAC: Esley Newton, email: Esley.Newton@ed.gov

Midwest and Northwest RAC: Bryan Keohane, email: Bryan.Keohane@ed.gov

Northeast and Islands RAC: Sarah Zevin, email: Sarah.Zevin@ed.gov

Pacific RAC: Erin Kelts, email: Erin.Kelts@ed.gov

Southeast RAC: Elisabeth Lembo, email: Elisabeth.Lembo@ed.gov

SUPPLEMENTARY INFORMATION: On August 18, 2023, the Department published in the Federal Register a notice of open meetings of the RACs (88 FR 56608). The notice established the agenda, dates and times, and instructions for accessing the upcoming virtual meetings. This notice amends the dates and times for Meeting 2 for each RAC and provides information about the meetings to members of the public who may be interested in attending the meetings or providing written comments related to the work of the RACs. Notice of these meetings is required under the Federal Advisory Committee Act.

Statutory Authority: The RACs are authorized by the Educational Technical Assistance Act of 2002 (ETAA) (Pub. L. 107-279; 20 U.S.C. 9605). Information on the RACs can be found at https://oese.ed.gov/offices/office-of-formula-grants/program-and-grantee-support-services/comprehensive-centers-program/regional-advisory-committees/. The RACs advise the Secretary of Education (Secretary) regarding the educational needs of their regions, as described in section 174(b) of the Education Sciences Reform Act of 2002, in order to assist in making decisions regarding the regional educational priorities.

The RACs' responsibilities include assessing the educational needs within their regions (Assessment). In conducting the Assessment, RACs seek input from chief executive officers of States, chief State school officers, educators, and parents. The RACs conduct open hearings to solicit the views and needs of schools (including public charter schools), teachers, administrators, members of the regional educational laboratory governing board, parents, local educational agencies, librarians, businesses, State educational agencies, and other customers, such as adult education programs, within the region regarding the need for the activities described in 20 U.S.C. 9564 and 9602, and how those needs would be most effectively addressed. RACs submit the Assessment to the Secretary and to the Director of the Institute of Education Sciences, at such time, in such a manner, and containing such information as the Secretary may require.

Purpose of Open Meetings: The open meetings are designed to—

(1) Provide members of the 10 RACs an opportunity to participate in two open virtual meetings to assess the educational needs within the region served and to deliberate on the findings to prepare their region's Assessment.

(2) Provide members of the RACs the opportunity to review and discuss the reports that they will submit to the Secretary in October 2023.

(3) Provide an opportunity for the public to observe and listen to RAC discussions on the top challenges in each region for improving student academic achievement and educational outcomes.

(4) Provide an opportunity for the public to observe and listen to RAC discussions on recommendations on the educational needs of each region and how those needs may be addressed through technical assistance activities provided by comprehensive centers described in section 203 of the Educational Technical Assistance Act (ETAA) that would help States, districts, and schools successfully address the critical educational challenges identified by each of the RACs.

(5) Provide an opportunity for the public to observe and listen to discussions and recommendations from each of the RACs on the priorities for federally funded technical assistance in their region.

Agenda

Meeting 1: The RACs will (1) review educational data from each region and public comments received and deliberate and make recommendations about the critical education needs of the region; and (2) discuss how those needs can most effectively be addressed through technical assistance activities.

Meeting 2: The RACs will (1) review additional input received from stakeholders and public comments received and, based on the information received, finalize their assessment of the critical educational needs of each region; and (2) deliberate on the education needs assessment for their region and finalize recommendations to be included in the Assessment.

Meeting agendas will be posted on the RAC website: https://oese.ed.gov/offices/office-of-formula-grants/program-and-grantee-support-services/comprehensive-centers-program/regional-advisory-committees/.

Meeting Dates and Times: Meeting times are listed in Eastern time and local time zones for each region.

Appalachia RAC (Kentucky, Tennessee, Virginia, and West Virginia)

Meeting 1: September 5, 2023, from 1:30 p.m. to 3 p.m. ET/12:30 p.m. to 2 p.m. CT.

Meeting 2: October 13, 2023, from 11 a.m. to 12:30 p.m. ET/10 a.m. to 11:30 a.m. CT.

Northwest RAC (Alaska, Idaho, Montana, Oregon, and Washington)

Meeting 1: September 6, 2023, from 2 p.m. to 3:30 p.m. ET/10 a.m. to 11:30 a.m. AKT/11 a.m. to 12:30 p.m. PT/12 p.m. to 1:30 p.m. MT.

Meeting 2: October 13, 2023, from 2 p.m. to 3:30 p.m. ET/10 a.m. to 11:30 a.m. AKT/11 a.m. to 12:30 p.m. PT/12 p.m. to 1:30 p.m. MT.

Central RAC (Colorado, Kansas, Missouri, Nebraska, North Dakota, South Dakota, and Wyoming)

Meeting 1: September 6, 2023, from 11 a.m. to 12:30 p.m. ET/9 a.m. to 10:30 a.m. MT/10 a.m. to 11:30 a.m. CT.

Meeting 2: October 16, 2023, from 2 p.m. to 3:30 p.m. ET/12 p.m. to 1:30 p.m. MT/1 p.m. to 2:30 p.m. CT.

Southeast RAC (Alabama, Florida, Georgia, Mississippi, North Carolina, and South Carolina)

Meeting 1: September 5, 2023, from 4 p.m. to 5:30 p.m. ET.

Meeting 2: October 11, 2023, from 9 a.m. to 10:30 a.m. ET/8 a.m. to 9:30 a.m. CT.

Mid-Atlantic RAC (Delaware, District of Columbia, Maryland, New Jersey, and Pennsylvania)

Meeting 1: September 7, 2023, from 11 a.m. to 12:30 p.m. ET.

Meeting 2: October 17, 2023, from 4 p.m. to 5:30 p.m. ET.

Southwest RAC (Arkansas, Bureau of Indian Education, Louisiana, New Mexico, Oklahoma, and Texas)

Meeting 1: September 7, 2023, from 2 p.m. to 3:30 p.m. ET/12 p.m. to 1:30 p.m. MT/1 p.m. to 2:30 p.m. CT.

Meeting 2: October 12, 2023, from 2 p.m. to 3:30 p.m. ET/12 p.m. to 1:30 p.m. MT/1 p.m. to 2:30 p.m. CT.

Pacific RAC (American Samoa, Commonwealth of the Northern Mariana Islands, Federated States of Micronesia, Guam, Hawaii, Palau, and Republic of the Marshall Islands)

Meeting 1: September 7, 2023, from 6 p.m. to 7:30 p.m. ET/11 a.m. to 12:30 p.m. SST/8 a.m. to 9:30 p.m. ChST/9 a.m. to 10:30 a.m. PONT/12 p.m. to 1:30 p.m. HST/7 a.m. to 8:30 a.m. PWT/10 a.m. to 11:30 a.m. MHT.

Meeting 2: October 16, 2023, from 6 p.m. to 7:30 p.m. ET/12 p.m. to 1:30 p.m. HST/11 a.m. to 12:30 p.m. SST/October 17, 2023 from 8 a.m. to 9:30 a.m. ChST/9 a.m. to 10:30 a.m. PONT/7 a.m. to 8:30 a.m. PWT/10 a.m. to 11:30 a.m. MHT.

Northeast and Islands RAC (Connecticut, Massachusetts, Maine, New Hampshire, New York, Puerto Rico, Rhode Island, Vermont, and the Virgin Islands)

Meeting 1: September 8, 2023, from 11 a.m. to 12:30 p.m. ET.

Meeting 2: October 12, 2023, from 11 a.m. to 12:30 p.m. ET.

West RAC (Arizona, California, Nevada, and Utah)

Meeting 1: September 8, 2023, from 2 p.m. to 3:30 p.m. ET/11 a.m. to 12:30 p.m. PT/12 p.m. to 1:30 p.m. MT.

Meeting 2: October 11, 2023, from 2 p.m. to 3:30 p.m. ET/11 a.m. to 12:30 p.m. PT/12 p.m. to 1:30 p.m. MT.

Midwest RAC (Illinois, Indiana, Iowa, Michigan, Minnesota, Ohio, and Wisconsin)

Meeting 1: September 5, 2023, from 11 a.m. to 12:30 p.m. ET/10 a.m. to 11:30 a.m. CT.

Meeting 2: October 16, 2023, from 11 a.m. to 12:30 p.m. ET/10 a.m. to 11:30 a.m. CT.

Public Participation: Members of the public who wish to observe and listen to RAC discussions and recommendations may access the RAC meetings via virtual teleconference. Pre-registration is required by 11:59 p.m. ET, two business days before the RAC meeting date. Information on how to register for and access the RAC meetings is on the RACs' website at https://oese.ed.gov/offices/office-of-formula-grants/program-and-grantee-support-services/comprehensive-centers-program/regional-advisory-committees/.

Public Comments: Members of the public may submit written comments at https://app.smartsheet.com/b/form/58f2ccc2542a44c9b6f83d567d5aa40b. Comments must be submitted by 11:59 p.m. ET, two business days before the RAC meeting date. Written comments should pertain to the work of RACs.

Reasonable Accommodations: The virtual RAC meetings are accessible to individuals with disabilities. If you will need an auxiliary aid or service to participate in the meeting (e.g., interpreting service, assistive listening device, or materials in an alternate format), notify the contact person listed in this notice no later than 48 hours before the scheduled meeting date. Although we will attempt to meet a request received after that date, we cannot guarantee availability of the requested accommodation because of insufficient time to arrange it.

Access to Records of the Meeting: Pursuant to 5 U.S.C. 1009(b), the public may inspect the meeting materials on the RACs' website, https://oese.ed.gov/offices/office-of-formula-grants/program-and-grantee-support-services/comprehensive-centers-program/regional-advisory-committees/. The public may also inspect the meeting materials and other RAC records at the U.S. Department of Education, 400 Maryland Ave SW, Washington DC 20202, by emailing the DFO for the RAC to schedule an appointment. Records of open meetings, including the official transcripts of the open meetings will be available for public inspection no later than 10 business days following each meeting and will be posted on the RACs' website. Requests for an official transcript may be made via email to the DFO for each RAC.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to this Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site. You also may access documents of the Department published in the Federal Register by using the article search feature at: www.federalregister.gov. Specifically, through the advanced search feature at this site, you can limit your search to documents published by the Department.

Authority: Section 206 of the ETAA, as amended (20 U.S.C. 9605).

Adam Schott,
Deputy Assistant Secretary for Policy and Programs, Delegated the Authority to Perform the Functions and Duties of the Assistant Secretary for Elementary and Secondary Education.

[FR Doc. 2023-20905 Filed 9-25-23; 8:45 am]

BILLING CODE 4000-01-P